DEPARTMENT OF COMMERCE

National Oceanic and Atmospheric Administration

[RTID 0648-XE343]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Habitat and Ecosystem Advisory Panel (AP).

DATES: The Habitat and Ecosystem AP meeting will be held October 28, 2024, from 1 p.m. until 5 p.m.; October 29, 2024, from 8:30 a.m. until 4:30 p.m.; and October 30, 2024, from 8:30 a.m. until 4:30 p.m., EDT.

ADDRESSES: The meeting will be held at the Hilton Garden Inn Charleston Airport & Convention Center, 5625 International Blvd., North Charleston, SC 29418; telephone: (843) 308-9330. Group Name: SAFMC Habitat and Ecosystem AP.

Council address: South Atlantic Fishery Management Council, 4055 Faber Place Drive, Suite 201, N Charleston, SC 29405.

The meeting will also be available via webinar. Registration is required. Webinar registration, an online public comment form, and briefing book materials will be available two weeks prior to the meeting at: https://safmc.net/advisory-panel-meetings/.

FOR FURTHER INFORMATION CONTACT: Kathleen Howington, Habitat and Ecosystem Scientist, Kathleen.howington@safmc.net; phone: (843) 725-7580.

SUPPLEMENTARY INFORMATION: The Habitat and Ecosystem AP will finalize the Essential Fish Habitat (EFH) 5-Year Review, finalize revisions to the Council's Energy Exploration, Development, Transportation and Hydropower Re-Licensing Policy, and begin the revisions to the Alterations to Riverine, Estuarine and Nearshore Flows Policy. The AP will also review the extent of tide gate, living shoreline, and beneficial use projects and their impacts on habitat, review the Mid Atlantic Fishery Management Council's Fishing Effects Database and App, receive an update on the Army Corps of Engineers project for reefs, and receive a presentation on offshore wind infrastructure coverage and artificial reef footprints. Finally, the AP will review the progress on the Habitat section of the Council's website, the tools and partner evaluation detailed in the Habitat Blueprint, communication and outreach efforts, the Habitat and Ecosystem AP workplan, and the next EFH 5-year review. The AP will provide recommendations to the Council on other topics as needed.

Special Accommodations

These meetings are physically accessible to people with disabilities. Requests for auxiliary aid should be directed to the Council office (see ADDRESSES) 5 days prior to the meeting.

Note: The times and sequence specified in this agenda are subject to change.

Authority: 16 U.S.C. 1801 et seq.

Dated: October 3, 2024.
Rey Israel Marquez,
Acting Deputy Director, Office of Sustainable Fisheries, National Marine Fisheries Service.

[FR Doc. 2024-23279 Filed 10-8-24; 8:45 am]

BILLING CODE 3510-22-P